DEPARTMENT OF AGRICULTURE

Forest Service

Ravalli County Resource Advisory Committee

AGENCY: Forest Service, USDA.

ACTION: Notice of meeting.

SUMMARY: The Ravalli County Resource Advisory Committee will be having the routine monthly meeting along with the public forum. The meeting is being held pursuant to the authorities in the Federal Advisory Committee Act (Pub. L. 110-343) and under the Secure Rural Schools and Community Self-Determination Act of 2000 (Pub. L. 110-343). The meeting is open to the public.

DATES: The meeting will be held on February 24, 2009, 6:30 p.m.

ADDRESSES: The meeting will be held at the Bitterroot National Forest, Supervisor Office, 1801 N First Street, Hamilton, Montana. Send written comments to Daniel G Ritter, District Ranger, Stevensville Ranger District, 88 Main Street, Stevensville, MT 59870, by facsimile (406) 777-7423, or electronically to dritter@fs.fed.us.

FOR FURTHER INFORMATION CONTACT: Daniel G. Ritter, Stevensville District Ranger and Designated Federal Officer, Phone: (406) 777-5461.

Dated: February 9, 2009.
Julie K. King,
Deputy Forest Supervisor.

[FR Doc. E9-3273 Filed 2-17-09; 8:45 am]

BILLING CODE 3410-11-M